DEPARTMENT OF THE TREASURY

Office of the Comptroller of the Currency

[Docket ID OCC-2014-0014]

Minority Depository Institutions Advisory Committee

AGENCY: Office of the Comptroller of the Currency, Department of the Treasury.

ACTION: Notice of Federal Advisory Committee Meeting.

SUMMARY: The Office of the Comptroller of the Currency (OCC) announces a meeting of the Minority Depository Institutions Advisory Committee (MDIAC).

DATES: The OCC MDIAC will hold a public meeting on Wednesday, June 25, 2014, beginning at 1 p.m. Central Daylight Time (CDT).

ADDRESSES: The OCC will hold the June 25, 2014, meeting of the MDIAC at the Sheraton Dallas Hotel by the Galleria, 4801 Lyndon B Johnson Fwy, Dallas, TX 75244.

FOR FURTHER INFORMATION CONTACT: Beverly Cole, Senior Advisor to the Senior Deputy Comptroller for Midsize and Community Bank Supervision, (202) 649-5420, Office of the Comptroller of the Currency, Washington, DC 20219.

SUPPLEMENTARY INFORMATION: By this notice, the OCC is announcing that the OCC MDIAC will convene a meeting at 1 p.m. CDT on Wednesday, June 25, 2014, at the Sheraton Dallas Hotel by the Galleria, 4801 Lyndon B Johnson Fwy, Dallas, TX 75244. Agenda items include a discussion of the status of the minority depository institution industry and current topics of interest to the industry. The purpose of the meeting is for the MDIAC to advise the OCC on steps the OCC may be able to take to ensure the continued health and viability of minority depository institutions and other issues of concern to minority depository institutions. Members of the public may submit written statements to the MDIAC by any one of the following methods:

• Email to MDIAC@occ.treas.gov; or

• Mail to: Beverly Cole, Designated Federal Official, Office of the Comptroller of the Currency, 400 7th Street SW., Washington, DC 20219.

The OCC must receive written statements no later than Friday, June 13, 2014. Members of the public who plan to attend the meeting and members of the public who require auxiliary aid should contact the OCC by 5 p.m. Eastern Daylight Time on Wednesday, June 18, 2014, to inform the OCC of their desire to attend the meeting and to provide the information that will be required to facilitate entry into the meeting. Attendees should provide their full name, email address, and organization, if any. Members of the public may contact the OCC via email at MDIAC@occ.treas.gov or by telephone at 202-649-5420.

Dated: June 6, 2014.
Paul M. Nash,
Senior Deputy Comptroller and Chief of Staff.

[FR Doc. 2014-13669 Filed 6-9-14; 11:15 am]

BILLING CODE 4810-33-P